DEPARTMENT OF HEALTH AND HUMAN SERVICES

Establishment of the Consumer Operated and Oriented Plan (CO-OP) Advisory Board

AGENCY: Department of Health and Human Services, Office of Consumer Information & Insurance Oversight.

ACTION: Federal Register Notice.

Authority: The Consumer Operated and Oriented Plan (CO-OP) Advisory Board is required under section 1322 of The Patient Protection and Affordable Care Act (PPACA) that calls for the establishment of the Consumer Operated and Oriented Plans (CO-OP) Program, which will foster the creation of qualified nonprofit health insurance issuers to offer qualified health plans in the individual and small group markets. The Advisory Board is governed by provisions of Public Law 92-463, as amended, (5 U.S.C. App. 2), which sets forth standards for the formation and use of advisory committees.

SUMMARY: The U.S. Department of Health and Human Services announces establishment of the Consumer Operated and Oriented Plan (CO-OP) Advisory Board, as directed by section 1322 of PPACA.

FOR FURTHER INFORMATION CONTACT: Roman Gurule, Office of Consumer Information & Insurance Oversight, Department of Health and Human Services; Telephone 202-260-6053; Fax 202-260-6108.

SUPPLEMENTARY INFORMATION: Public Law 111-148-Section 1322 of PPACA establishes the Advisory Board within the Department of Health and Human Services (HHS). To comply with the authorizing directive and guidelines under the Federal Advisory Committee Act (FACA), a charter has been filed with the Committee Management Secretariat in the General Services Administration (GSA), the appropriate committees in the Senate and U.S. House of Representatives, and the Library of Congress to establish the Advisory Board as a non-discretionary Federal advisory committee. The charter was filed on June 18, 2010.

Objectives and Scope of Activities

The Consumer Operated and Oriented Plan (CO-OP) Advisory Board is the Department's statutory public advisory body to foster the creation of qualified nonprofit health insurance issuers. The Advisory Board will assist and advise the Secretary and Congress through the Department of Health and Human Services Office of Consumer Information and Insurance Oversight (OCIIO) on the Department's strategy to foster the creation of qualified nonprofit health insurance issuers. Specifically, the Committee shall advise the Secretary and Congress concerning the award of grants and loans related to the CO-OP Program.

Membership and Designation

PPACA gave the Comptroller General of the United States responsibility for appointing the Advisory Board's 15 members from among individuals with qualifications described in section 1805(c)(2) of the Social Security Act. Any individual appointed under the board shall meet ethics and conflict of interest standards protecting against insurance industry involvement and interference. Any vacancy on the advisory board shall be filled in the same manner as the original appointment. All members, while so serving away from their homes or regular places of business, may be allowed travel expenses, including per diem in lieu of subsistence, in the same manner as such expenses are authorized by subchapter I of chapter 57 of title 5, United States Code.

Administrative Management and Support

HHS will provide funding and administrative support for the Advisory Board to the extent permitted by law within existing appropriations. Management and oversight for support services provided to the Advisory Board will be the responsibility of the Office of Consumer Information & Insurance Oversight, which is a staff division within HHS. Staff will be assigned to support the activities of the Advisory Board.

A copy of the Commission charter can be obtained from the designated contacts or by accessing the FACA database that is maintained by the GSA Committee Management Secretariat. The website for the FACA database is http://fido.gov/facadatabase/.

Dated: June 17, 2010.
Jay Angoff,
Director, Office of Consumer Information & Insurance Oversight.

[FR Doc. 2010-15223 Filed 6-22-10; 8:45 am]

BILLING CODE 4120-01-P